DEPARTMENT OF COMMERCE

International Trade Administration

A-357-812

Honey from Argentina: Final Results of Antidumping Duty Administrative Review and Determination to Revoke Order in Part

AGENCY: Import Administration, International Trade Administration, Department of Commerce.

SUMMARY: On December 28, 2009, the Department of Commerce (the Department) published its preliminary results of the 2007-2008 administrative review of the antidumping duty order on honey from Argentina. See Honey from Argentina: Preliminary Results of Antidumping Duty Administrative Review and Intent to Revoke Order in Part, 74 FR 68570 (December 28, 2009) (Preliminary Results). This review covers one exporter, Asociacion de Cooperativas Argentinas (ACA). The period of review (POR) is December 1, 2007, through November 30, 2008. We invited interested parties to comment on the Preliminary Results, and received no comments. Therefore, our final results remain unchanged from our Preliminary Results, and we are revoking the order with respect to ACA.

EFFECTIVE DATE: May 4, 2010.

FOR FURTHER INFORMATION CONTACT: John Drury or Dena Crossland, Office 7, Import Administration, International Trade Administration, U.S. Department of Commerce, 14th Street and Constitution Avenue, NW, Washington, DC 20230; telephone: (202) 482-0195 or (202) 482-3362, respectively.

SUPPLEMENTARY INFORMATION:

Background

On December 28, 2009, the Department published in the Federal Register the preliminary results of the administrative review of the antidumping duty order on honey from Argentina for the period December 1, 2007, through November 30, 2008. See Preliminary Results. We invited parties to comment on the Preliminary Results. We received no comments or a request for a hearing.

As explained in the memorandum from the Deputy Assistant Secretary (DAS) for Import Administration, the Department exercised its discretion to toll Import Administration deadlines for the duration of the closure of the Federal Government from February 5, through February 12, 2010. Thus, all deadlines in this segment of the proceeding were extended by seven days. Therefore, the revised deadline for the final results of this review became May 4, 2010. See Memorandum to the Record from Ronald Lorentzen, DAS for Import Administration, regarding “Tolling of Administrative Deadlines As a Result of the Government Closure During the Recent Snowstorm,” dated February 12, 2010.

Period of Review

The POR is December 1, 2007, through November 30, 2008.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and Customs purposes, the Department's written description of the merchandise under this order is dispositive.

Determination to Revoke Order, in Part

The Department may revoke, in whole or in part, an antidumping duty order upon completion of a review under section 751 of the Tariff Act of 1930, as amended (the Act). While Congress has not specified the procedures that the Department must follow in revoking an order, in whole or in part, the Department has developed a procedure for revocation that is described in 19 CFR 351.222. For exporters or producers requesting revocation from an antidumping duty order, this regulation requires, inter alia, that the company submit the following: (1) a certification that the company has sold the subject merchandise at not less than normal value (NV) in the current review period and that the company will not sell subject merchandise at less than NV in the future; (2) a certification that the company sold commercial quantities of the subject merchandise to the United States in each of the three years forming the basis of the request; and (3) an agreement to immediate reinstatement in the order if the Department concludes that the company, subsequent to the revocation, sold subject merchandise at less than NV. See 19 CFR 351.222(e)(1). Upon receipt of such a request, the Department will consider: (1) whether the company in question has sold subject merchandise at not less than NV for a period of at least three consecutive years and is not likely to sell the subject merchandise at less than NV in the future; and (2) whether the company has agreed in writing to its immediate reinstatement in the order, as long as any exporter or producer is subject to the order, if the Department concludes that the company, subsequent to the revocation, sold the subject merchandise at less than NV. See 19 CFR 351.222(b)(2).

On December 30, 2008, pursuant to section 751(d) of the Act and 19 CFR 351.222(b)(2), ACA requested revocation of the antidumping duty order with respect to its sales of subject merchandise. ACA's request was accompanied by certification that it: (1) sold subject merchandise at not less than NV in the current review period and will not sell subject merchandise at less than NV in the future; (2) sold subject merchandise in commercial quantities during each of the consecutive three years forming the basis for its request for revocation; and (3) agreed to immediate reinstatement of the antidumping duty order if the Department concludes ACA has sold subject merchandise at less than NV subsequent to revocation. See 19 CFR 351.222(e)(1).

In the Preliminary Results, we determined that ACA's request meets all of the criteria under 19 CFR 351.222(e)(1) and that revocation is warranted pursuant to 19 CFR 351.222(b)(2). See Preliminary Results, 74 FR at 68572 and Memorandum to John M. Andersen, Acting Deputy Assistant Secretary for Antidumping and Countervailing Duty Operations, “Request by Asociacion de Cooperativas Argentinas (ACA) for Revocation in the Antidumping Duty Administrative Review of Honey from Argentina,” dated December 18, 2009. We have not received any comments or evidence to alter our findings for these final results. Therefore, we find that ACA qualifies for revocation of the antidumping duty order on honey from Argentina under 19 CFR 351.222(b)(2) and, accordingly, we are revoking the order with respect to subject merchandise exported by ACA.¹

¹ Only exports by ACA in which ACA is the first party with knowledge of the U.S. destination of the merchandise are covered by this revocation.

Effective Date of Revocation

The revocation of ACA applies to all entries of subject merchandise that are exported by ACA, and are entered, or withdrawn from warehouse, for consumption on or after December 1, 2008. The Department will order the suspension of liquidation ended for all such entries and will instruct U.S. Customs and Border Protection (CBP) to release any cash deposits or bonds. The Department also will instruct CBP to refund with interest any cash deposits on entries made on or after December 1, 2008.

Final Results of Review

We determine that the following dumping margin exists for the period December 1, 2007, through November 30, 2008:

Exporter | Weighted-Average Margin (percentage)
Asociacion de Cooperativas Argentinas | 0.00

Assessment Rates

The Department shall determine, and CBP shall assess, antidumping duties on all appropriate entries, in accordance with 19 CFR 351.212(b). Since the importer-specific assessment rate calculated in the final results of this review is 0.00 percent, we will instruct CBP to liquidate without regard to antidumping duties for these entries. See 19 CFR 351.106(c)(2). The Department intends to issue appropriate assessment instructions directly to CBP 15 days after publication of these final results of review.

The Department clarified its automatic assessment regulation on May 6, 2003 (68 FR 23954). This clarification will apply to entries of subject merchandise during the POR produced by the company(ies) included in these final results of review for which the reviewed company(ies) did not know their merchandise was destined for the United States. In such instances, we will instruct CBP to liquidate un-reviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this administrative review for all shipments of the subject merchandise entered, or withdrawn from warehouse, for consumption on or after the publication date of these final results, consistent with section 751(a)(1) of the Act: (1) for ACA, which is revoked from the order, no cash deposit will be required; (2) if the exporter is not a firm covered in this review, but was covered in a previous review or the original less than fair value (LTFV) investigation, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in this or any previous review conducted by the Department, the cash deposit rate will continue to be 30.24 percent, which is the all-others rate established in the LTFV investigation. See Notice of Antidumping Duty Order; Honey From Argentina, 66 FR 63672 (December 10, 2001). These deposit requirements, when imposed, shall remain in effect until publication of the final results of the next administrative review.

Notifications to Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act.

Dated: April 22, 2010.
Ronald K. Lorentzen,
Deputy Assistant Secretary for Import Administration.

[FR Doc. 2010-10479 Filed 5-3-10; 8:45 am]

BILLING CODE 3510-DS-S